DEPARTMENT OF TRANSPORTATION

Federal Aviation Administration

14 CFR Part 39

[Docket No. 2002-NM-260-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to all BAE Systems (Operations) Limited (Jetstream) Model 4101 airplanes. This proposal would require revising the airplane flight manual to advise the flightcrew of special operating limitations associated with a reduction in airplane performance due to loss of propeller efficiency. This proposal also would require installing placards in the flight compartment and operating the airplane per certain special operating limitations; or performing repetitive flight checks to verify the adequacy of the airplane's climb performance, and accomplishing follow-on actions if necessary. This action is necessary to ensure that the flightcrew accounts for the potential loss of airplane performance due to loss of propeller efficiency, which could result in an increased risk of collision with terrain. This action is intended to address the identified unsafe condition.

DATES: Comments must be received by March 8, 2004.

ADDRESSES: Submit comments in triplicate to the Federal Aviation Administration (FAA), Transport Airplane Directorate, ANM-114, Attention: Rules Docket No. 2002-NM-260-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-260-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-260-AD.” The postcard will be date stamped and returned to the commenter.

Availability of NPRMs

Any person may obtain a copy of this NPRM by submitting a request to the FAA, Transport Airplane Directorate, ANM-114, Attention: Rules Docket No. 2002-NM-260-AD, 1601 Lind Avenue, SW., Renton, Washington 98055-4056.

Discussion

The Civil Aviation Authority (CAA), which is the airworthiness authority for the United Kingdom, notified the FAA that an unsafe condition may exist on all BAE Systems (Operations) Limited (Jetstream) Model 4101 airplanes. The CAA advises that a shortfall in engine performance, compared to the performance standards shown in the airplane flight manual (AFM), has been observed during climb-performance test flights. The shortfall has been attributed to a loss of propeller efficiency due to erosion or profile changes of the propeller blade's leading edge. The flightcrew may be unaware of the potential loss of airplane performance due to loss of propeller efficiency. This condition, if not corrected, could result in an increased risk of collision with terrain.

Explanation of Relevant Service Information

BAE Systems (Operations) Limited has issued Service Bulletin J41-A61-012, Revision 1, dated February 25, 2002. That service bulletin describes procedures for revising the BAE Jetstream Series 4100 Airplane Flight Manual by inserting AFM Supplement 8, and installing placards near the limitations placards in the flight compartment to advise the flightcrew to operate the airplane per the special operating limitations in AFM Supplement 8. AFM Supplement 8 revises the General, Performance, Supplements, and Appendices sections of the AFM to include information associated with a reduction in airplane performance due to loss of propeller efficiency.

BAE Systems (Operations) Limited also has issued Service Bulletin J41-61-013, Revision 1, dated February 25, 2002, which describes procedures for repetitive flight checks (which the service bulletin refers to as “flight tests”) to verify the adequacy of the airplane's climb performance. If the airplane's climb performance is adequate, the service bulletin provides for removal of placards installed per Service Bulletin J41-A61-012, Revision 1 (if such placards were installed previously), and operation of the airplane without limitation by AFM Supplement 8.

Accomplishment of the actions specified in the applicable service bulletins is intended to adequately address the identified unsafe condition. The CAA classified BAE Systems (Operations) Limited Service Bulletin J41-A61-012, Revision 1, as mandatory and issued British airworthiness directive 001-11-2001 to ensure the continued airworthiness of these airplanes in the United Kingdom.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept us informed of the situation described above. We have examined the findings of the CAA, reviewed all available information, and determined that AD action is necessary for products of this type design that are certificated for operation in the United States.

Explanation of Requirements of Proposed AD

Since an unsafe condition has been identified that is likely to exist or develop on other airplanes of the same type design registered in the United States, the proposed AD would require revising the airplane flight manual (AFM) to advise the flightcrew of special operating limitations associated with a reduction in airplane performance due to loss of propeller efficiency. This proposed AD also would require installing placards in the flight compartment and operating the airplane per certain special operating limitations; or performing repetitive flight checks to verify the adequacy of the airplane's climb performance, and accomplishing follow-on actions if necessary. The actions would be required to be accomplished in accordance with the service information described previously, except as discussed below.

Difference Between Proposed AD and CAA Airworthiness Directive

Although this proposed AD would provide for accomplishment of repetitive flight checks per BAE Systems (Operations) Limited Service Bulletin J41-61-013, Revision 1, as one alternative for compliance, British airworthiness directive 001-11-2001 does not reference the flight checks specified in that service bulletin. The CAA acknowledges the availability of flight checks as another alternative to address the unsafe condition associated with this proposed AD.

Differences Between Proposed AD and Service Information

As explained previously, BAE Systems Service Bulletin J41-61-013, Revision 1, describes procedures for repetitive flight tests to determine the climb performance of both engines of the airplane. This proposed AD refers to those flight tests as flight checks to differentiate them from FAA certification flight tests. We have determined that the procedures in the service bulletin describe a post-maintenance flight and not an FAA certification flight test. The check must be performed by an appropriately rated flightcrew. Paragraph (c) of this proposed AD clarifies this issue.

Although BAE Systems (Operations) Limited Service Bulletin J41-A61-012, Revision 1, and J41-61-013, Revision 1, specify to submit information on the accomplishment of these service bulletins to the manufacturer, this proposed AD does not include such a requirement.

Cost Impact

We estimate that 57 airplanes of U.S. registry would be affected by this proposed AD.

It would take approximately 1 work hour per airplane to accomplish the proposed AFM revision, at an average labor rate of $65 per work hour. Based on these figures, the cost impact of the proposed AD on U.S. operators is estimated to be $3,705, or $65 per airplane.

This proposed AD also provides for either installation of placards or accomplishment of repetitive flight checks as acceptable necessary follow-on actions. Either action would take approximately 1 work hour per airplane to accomplish, at an average labor rate of $65 per work hour. Based on these figures, the cost impact of either of these proposed actions is estimated to be $65 per airplane, though for the repetitive flight checks, this cost impact would be per check cycle.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2002-NM-260-AD.

Applicability: All Model Jetstream 4101 airplanes, certificated in any category.

Compliance: Required as indicated, unless accomplished previously.

To ensure that the flightcrew accounts for the potential loss of airplane performance due to loss of propeller efficiency, which could result in an increased risk of collision with terrain, accomplish the following:

Initial Compliance Times

(a) At the applicable time specified in paragraph (a)(1) or (a)(2) of this AD: Revise the General, Performance, Supplements, and Appendices sections of the BAE Jetstream Series 4100 Airplane Flight Manual (AFM) by incorporating the information in AFM Supplement 8; then, before further flight, do the actions in paragraph (b) or (c) of this AD.

(1) For propeller blades that have not been overhauled: Prior to the accumulation of 6,000 total flight hours on any propeller blade, or within 30 days after the effective date of this AD, whichever is later.

(2) For overhauled propeller blades: Within 7 days since the most recent overhaul of any propeller blade, or within 7 days after the effective date of this AD, whichever is later.

Alternative 1: Installation of Placards and Special Operating Limitations

(b) Do all actions in paragraphs 2.A.(2) and 2.A.(3) of the Accomplishment Instructions of BAE Systems (Operations) Limited Service Bulletin J41-A61-012, Revision 1, dated February 25, 2002. These actions include installing placards in the flight compartment to advise the flightcrew of special operating limitations associated with AFM Supplement 8. Although BAE Systems (Operations) Limited Service Bulletin J41-A61-012, Revision 1, specifies to submit information on the accomplishment of this service bulletin to the manufacturer, this AD does not include such a requirement.

Alternative 2: Flight Check

(c) Do a flight check to verify the adequacy of the airplane's climb performance, per BAE Systems (Operations) Limited Service Bulletin J41-61-013, Revision 1, dated February 25, 2002. This flight check is considered a post-maintenance flight and is not an FAA certification flight test. This check must be performed by an appropriately rated flightcrew. If there is any difference between the referenced service bulletin and this AD, this AD prevails. Accomplishment of the actions specified in BAE Systems (Operations) Limited Document AE1150/J41 (“Jetstream 41 Propeller Performance Fleet Monitoring Programme”), Issue 2, dated January 18, 2002, is an acceptable means of compliance with this paragraph.

(1) If the climb rate during the flight check is less than 35 feet per minute below the gross climb rate specified in the AFM: Repeat the flight check at intervals not to exceed 3,000 flight hours.

(2) If the climb rate during any flight check per paragraph (c) or (c)(1) of this AD is 35 feet per minute or more below the gross climb rate specified in the AFM: Before further flight, do the actions required by paragraph (b) of this AD.

Removal of Placards and Eventual Re-Installation of Same

(d) If the propeller blades on the left and right propellers on an airplane are replaced so that no propeller blade installed on the airplane has accumulated 6,000 or more total flight hours and no propeller blade has been overhauled: The placards installed per paragraph (b) of this AD may be removed from the airplane, and operation of the airplane per AFM Supplement 8, or accomplishment of the repetitive flight checks per paragraph (c) of this AD, is no longer required. Then, at the time specified in paragraph (d)(1) or (d)(2) of this AD, as applicable, repeat the actions required by paragraph (b) or (c) of this AD.

(1) For propeller blades that have not been overhauled: Prior to the accumulation of 6,000 total flight hours on any propeller blade.

(2) For overhauled propeller blades: Within 7 days after overhauling any propeller blade.

Alternative Methods of Compliance

(e) In accordance with 14 CFR 39.19, the Manager, International Branch, ANM-116, Transport Airplane Directorate, FAA, is authorized to approve alternative methods of compliance for this AD.

Note 1: The subject of this AD is addressed in British airworthiness directive 001-11-2001.

Issued in Renton, Washington, on January 29, 2004.
Kalene C. Yanamura,
Acting Manager, Transport Airplane Directorate, Aircraft Certification Service.

[FR Doc. 04-2474 Filed 2-5-04; 8:45 am]

BILLING CODE 4910-13-P